DEPARTMENT OF EDUCATION

National Advisory Committee on Institutional Quality and Integrity, (National Advisory Committee); Notice of Meeting Changes

AGENCY: National Advisory Committee on Institutional Quality and Integrity, Department of Education.

SUMMARY: This notice advises interested parties of changes concerning the upcoming meeting of the National Advisory Committee and amends information provided in the original meeting notice published in the March 21, 2002 Federal Register (67 FR 13131).

FOR FURTHER INFORMATION CONTACT: Ms. Bonnie LeBold, the Executive Director of the National Advisory Committee on Institutional Quality and Integrity, U.S. Department of Education, room 7007, MS 7592, 1990 K St., NW., Washington, DC 20006, telephone: (202) 219-7009, fax: (202) 219-7008, e-mail: Bonnie.LeBold@ed.gov.

Individuals who use a telecommunications device for the deaf (TDD) may call the Federal Information Relay Service at 1-800-877-8339 between 8 a.m. and 8 p.m. Eastern time, Monday through Friday.

SUPPLEMENTARY INFORMATION: The changes to the agenda are as follows:

(1) The National Advisory Committee meeting originally scheduled from 8:30 a.m. until 3 p.m. on Wednesday, June 5, 2002, as indicated in the March 21, 2002 Federal Register (67 FR 13131), will conclude at approximately 12:30 p.m.

(2) The agency listed below, which was originally scheduled for review during the National Advisory Committee's June 2002 meeting, will be postponed for review until a future meeting.

• Teacher Education Accreditation Council (Requested scope of recognition: the accreditation of professional education programs in institutions offering baccalaureate and graduate degrees for the preparation of teachers K-12)

Any third-party written comments regarding this agency that were received by March 18, 2002, in accordance with the Federal Register notice published on February 1, 2002, will become part of the official record, and those comments will be considered by the National Advisory Committee when it reviews the agency's petition for initial recognition at a future meeting. In addition, prior to the meeting, another opportunity to provide written comments on the agency will be announced in a Federal Register notice.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Authority: 5 U.S.C. Appendix 2.

Dated: May 16, 2002.
Sally L. Stroup,
Assistant Secretary for Postsecondary Education.

[FR Doc. 02-13068 Filed 5-23-02; 8:45 am]

BILLING CODE 4000-01-P